DEPARTMENT OF LABOR

Employment and Training Administration

[TA-W-50,322]

Temp Associates, Mount Pleasant, Iowa; Notice of Termination of Investigation

Pursuant to section 221 of the Trade Act of 1974, as amended, an investigation was initiated on November 19, 2002 in response to a worker petition filed by a state agency representative on behalf of workers at Temp Associates, Mount Pleasant, Iowa.

The petitioner has requested that this petition be withdrawn. Consequently, the investigation has been terminated.

Signed at Washington, DC this 19th day of December, 2002.
Linda G. Poole,
Certifying Officer, Division of Trade Adjustment Assistance.

[FR Doc. 03-420 Filed 1-8-03; 8:45 am]

BILLING CODE 4510-30-P